COMMISSION ON CIVIL RIGHTS

Agenda and Notice of Public Meeting of the Arizona Advisory Committee

Notice is hereby given, pursuant to the provisions of the rules and regulations of the U.S. Commission on Civil Rights, that a meeting of the Arizona Advisory Committee to the Commission will convene at 8 a.m. and adjourn at 4 p.m. on Thursday, August 31, 2000, at the Radisson Woodlands Hotel Flagstaff, Kaibab Room, 1175 West Route 66, Flagstaff, Arizona 86001. The purpose of the factfinding, one day open meeting is to discuss civil rights issues in law enforcement and education.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, July 11, 2000.
Edward A. Hailes, Jr.
Acting General Counsel.

[FR Doc. 00-18834 Filed 7-25-00; 8:45 am]

BILLING CODE 6335-01-M